FEDERAL COMMUNICATIONS COMMISSION

47 CFR Part 54

[WC Docket Nos. 11-42, 09-197 and 10-90; FCC 15-71]

Lifeline and Link Up Reform and Modernization, Telecommunications Carriers Eligible for Universal Service Support, Connect America Fund

AGENCY: Federal Communications Commission.

ACTION: Final rule; announcement of effective date.

SUMMARY: In this document, the Federal Communications Commission (Commission) announces that the Office of Management and Budget (OMB) has approved, for a period of three years, the information collection requirements associated with certain of the provision of the rules adopted as part of the Commission's Second Further Notice of Proposed Rulemaking, Order on Reconsideration, Second Report and Order, and Memorandum Opinion and Order, (Lifeline Second Reform Order). This document is consistent with the Lifeline Second Reform Order, which stated that the Commission would publish a document in the Federal Register announcing OMB approval and the effective date of those rules.

DATES: The amendments to §§ 54.201, 54.400, 54.401, 54.404, 54.407, 54.410, and 54.417, published at 80 FR 40923, July 14, 2015, are effective February 17, 2016.

FOR FURTHER INFORMATION CONTACT: Christian Hoefly, Wireline Competition Bureau, (202) 418-3607 or TTY: (202) 418-0484.

SUPPLEMENTARY INFORMATION: This document announces that, on January 5, 2016, OMB approved, for a period of three years, the information collection requirements contained in the Commission's Order, FCC 15-71, published at 80 FR 40923, July 14, 2015. The OMB Control Number is 3060-0819. The Commission publishes this notice as an announcement of the effective date rules requiring OMB approval. If you have any comments on the burden estimates listed below, or how the Commission can improve the collections and reduce any burdens caused thereby, please contact Nicole Ongele, Federal Communications Commission, Room 1-A620, 445 12th Street SW., Washington, DC 20554. Please include the OMB Control Number, 3060-0819, in your correspondence. The Commission will also accept your comments via email at PRA@fcc.gov.

To request material in accessible formation for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on January 5, 2016, for the information collection requirements contained in the Commission's rules in 47 CFR part 54.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0819.

The foregoing notice is required by the Paperwork Reduction Act of 1995, Pub. L. 104-13, October 1, 1995, and 44 U.S.C. 3507.

The total annual reporting burdens and costs for the respondents are as follows:

OMB Control Number: 3060-0819.

OMB Approval Date: January 5, 2016.

OMB Expiration Date: January 31, 2019.

Title: Lifeline and Link Up Reform and Modernization, Telecommunications Carriers Eligible for Universal Service Support, Connect America Fund.

Form Number: FCC Forms 497, 481 & 555.

Type of Review: Revision of a currently approved collection.

Respondents: Individuals or households and business or other for-profit.

Number of Respondents: 28,009,115 respondents; 30,541,922 responses.

Estimated Time per Response: 0.0167 hours to 250 hours.

Frequency of Response: Daily or monthly, every 60 days, annual, biennial, on occasion reporting requirements, third party disclosure requirement and record keeping requirement.

Obligation to Respond: Required to obtain or retain benefits. Statutory authority is contained in Section 1, 4(i), 201-205, 214, 254, and 403 of the Communications Act of 1934, as amended, 47 U.S.C. 1, 4(i), 201-205, 214, 254 and 403.

Total Annual Burden: 22,064,798 hours.

Total Annual Cost: None.

Privacy Act Impact Assessment: Yes. The Commission completed a Privacy Impact Assessment (PIA) for some of the information collection requirements contain in this collection. The PIA was published in the Federal Register at 78 FR 73535 on December 6, 2013. The PIA may be reviewed at: http://www.fcc.gov/omd/privacyact/Privacy_Impact_Assessment.html.

Nature and Extent of Confidentiality: Some of the requirements contained in this information collection does affect individuals or households, and thus, there are impacts under the Privacy Act. The FCC's system of records notice (SORN), FCC/WCB-1, “Lifeline Program.” The Commission will use the information contained in FCC/WCB-1 to cover the personally identifiable information (PII) that is required as part of the Lifeline Program (“Lifeline”). As required by the Privacy Act of 1974, as amended, 5 U.S.C. 552a, the Commission also published a SORN, FCC/WCB-1 “Lifeline Program” in the Federal Register on December 6, 2013 (78 FR 73535).

Also, respondents may request materials or information submitted to the Commission or to the Universal Service Administrative Company (USAC or Administrator) be withheld from public inspection under 47 CFR 0.459 of the FCC's rules. We note that USAC must preserve the confidentiality of all data obtained from respondents; must not use the data except for purposes of administering the universal service programs; and must not disclose data in company-specific form unless directed to do so by the Commission.

Needs and Uses: In June 2015, the Commission adopted an order reforming its low-income universal service support mechanisms. Lifeline and Link Up Reform and Modernization; Telecommunications Carriers Eligible for Universal Service Support; Connect America Fund, WC Docket Nos. 11-42, 09-197, 10-90, Second Further Notice of Proposed Rulemaking, Order on Reconsideration, Second Report and Order, and Memorandum Opinion and Order, (Lifeline Second Reform Order). This revised information collection addresses requirements to carry out the reforms to which the Commission committed itself in the Lifeline Second Reform Order. Under this information collection, the Commission will implement the revised rules adopted in the 2015 Lifeline Second Reform Order, regarding the retention of subscriber eligibility documentation, eligible telecommunications carrier (ETC) designation, and ETC reimbursement under the Lifeline program; update the number of respondents for all the existing information collection requirements, thus increasing the total burden hours for some requirements and decreasing the total burden hours for other requirements; eliminate some requirements as part of this information collection, because they are no longer applicable; revise the FCC Form 555 and the accompanying instructions to require ETCs to provide a Service Provider Identification Number (SPIN); and make non-substantive changes to this information collection, pursuant to 44 U.S.C. 3507, to update the FCC Form 497 Instructions. These updates do not modify the burdens or costs contained in this information collection.

Federal Communications Commission.
Marlene H. Dortch,
Secretary.

[FR Doc. 2016-03075 Filed 2-16-16; 8:45 am]

BILLING CODE 6712-01-P